DEPARTMENT OF HEALTH AND HUMAN SERVICES

National Institutes of Health

National Institute on Alcohol Abuse and Alcoholism; Amended Notice of Meeting

Notice is hereby given of a change in the meeting of the National Advisory Council on Alcohol Abuse and Alcoholism, May 12, 2020, 12:30 p.m. to May 13, 2020, 3:00 p.m., National Institutes of Health, National Institute on Alcohol Abuse and Alcoholism, 6700B Rockledge Drive, Bethesda, MD 20817 which was published in the Federal Register on April 10, 2020, 85 FR 20285.

This notice is being amended to change the start time of the closed session on May 12, 2020, from 12:30 p.m. to 12:00 p.m. The closed session will now be held from 12:00 p.m. to 1:00 p.m. The meeting is partially closed to the public.

Dated: April 21, 2020.
Ronald J. Livingston, Jr.,
Program Analyst, Office of Federal Advisory Committee Policy.

[FR Doc. 2020-08779 Filed 4-23-20; 8:45 am]

BILLING CODE 4140-01-P